Title 3—

The President

Proclamation 8637 of March 16, 2011

150th Anniversary of the Unification of Italy, 2011

By the President of the United States of America

A Proclamation

On March 17, Italy celebrates the 150th anniversary of its unification as a single state. On this day, we join with Italians everywhere to honor the courage, sacrifice, and vision of the patriots who gave birth to the Italian nation. At a time when the United States was fighting for the preservation of our own Union, Giuseppe Garibaldi’s campaign for the unification of Italy inspired many around the world in their own struggles, including the 39th New York Infantry, also known as “The Garibaldi Guard.” Today, the legacy of Garibaldi and all those who unified Italy lives on in the millions of American women and men of Italian descent who strengthen and enrich our Nation.

Italy and the United States are bound by friendship and common dedication to civil liberties, democratic principles, and the universal human rights our countries both respect and uphold. As we mark this important milestone in Italian history, we also honor the joint efforts of Americans and Italians to foster freedom, democracy, and our shared values throughout the world.

NOW, THEREFORE, I, BARACK OBAMA, President of the United States of America, by virtue of the authority vested in me by the Constitution and the laws of the United States, do hereby proclaim March 17, 2011, as a day to celebrate the 150th Anniversary of the Unification of Italy. I encourage all Americans to learn more about the history of Italian unification and to honor the enduring friendship between the people of Italy and the people of the United States.

IN WITNESS WHEREOF, I have hereunto set my hand this sixteenth day of March, in the year of our Lord two thousand eleven, and of the Independence of the United States of America the two hundred and thirty-fifth.

[FR Doc. 2011-6720

Filed 3-18-11; 8:45 am]

Billing code 3195-W1-P